COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products and a service to the Procurement List that will be furnished by nonprofit agencies employing persons who are blind or have other severe disabilities, and deletes products from the Procurement List previously furnished by such agencies.

DATES: Effective Date: 5/1/2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 1/29/2016 (81 FR 5009) and 2/26/2016 (81 FR 9811-9812), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products:

NSN(s)—Product Name(s): MR 1188—MR Towel Set, Christmas, Includes Shipper 11188

Mandatory Source of Supply: Alphapointe, Kansas City, MO

NSN(s)—Product Name(s): MR 10659—Container Set, Soup and Salad, Includes Shipper 20659

Mandatory Source of Supply: Winston-Salem Industries for the Blind, Inc., Winston-Salem, NC

NSN(s)—Product Name(s): MR 849—Whisk, Wire Looped

Mandatory Source of Supply: Cincinnati Association for the Blind, Cincinnati, OH

Mandatory Purchase For: Military commissaries and exchanges in accordance with the Code of Federal Regulations, Chapter 51, 51-6.4.

Contracting Activity: Defense Commissary Agency

Distribution: C-List

Service:

Service Type: Administrative and Professional Support Service

Service Mandatory For: Executive Office of the President, Washington, DC

Mandatory Source of Supply: Columbia Lighthouse for the Blind, Washington, DC

Contracting Activity: Executive Office of the President, Office of Administration, Office of the Chief Financial Officer, Procurement Division, Washington, DC

Deletions

On 2/26/2016 (81 FR 9811-9812), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products:

NSN(s)—Product Name(s)

MR 523—Candle, Air Freshening, Potpourri

MR 524—Candle, Air Freshening, Dewdrop

MR 525—Candle, Air Freshening, Rose

MR 526—Candle, Air Freshening, Mulberry

MR 528—Candle, Air Freshening, Wildflower

MR 529—Candle with Glass Holder

MR 531—Candle, Air Freshening, Peach

Mandatory Source of Supply: South Texas Lighthouse for the Blind, Corpus Christi, TX

MR 808—Spoon, Basting, SS Trim

MR 811—Fork, Serving, SS Trim

MR 824—Mandolin Slicer

MR 987—Towel, Super Absorbent, Orange, 20″ x 23″, 3 Pack

Mandatory Source of Supply: Industries for the Blind, Inc., West Allis, WI

MR 1049—Mop, Microfiber, 16″

MR 1059—Refill, Mop, Microfiber, 16″

Mandatory Source of Supply: Alphapointe, Kansas City, MO

MR 3209—Goody Hair Care Products—Ouchless Latex Elastic

Mandatory Source of Supply: Association for Vision Rehabilitation and Employment, Inc., Binghamton, NY

Contracting Activity: Defense Commissary Agency

NSN(s)—Product Name(s)

6515-01-466-2710—Combat Arms Ear Plug, Dual Ended, Universal Size

6515-00-SAM-0016—Combat Arms Ear Plug, Dual Ended

Mandatory Source of Supply: Access: Supports for Living Inc., Middletown, NY

Contracting Activity: Defense Logistics Agency Troop Support

Barry S. Lineback,
Director, Business Operations.

[FR Doc. 2016-07430 Filed 3-31-16; 8:45 am]

BILLING CODE 6353-01-P